DEPARTMENT OF TRANSPORTATION

Coast Guard

[USCG 2003-14496]

Collection of Information Under Review by Office of Management and Budget (OMB): OMB Control Numbers 2115-0586, 2115-0053, 2115-0025, and 2115-0007

AGENCY: Coast Guard, DOT.

ACTION: Request for comments.

SUMMARY: In compliance with the Paperwork Reduction Act of 1995, the Coast Guard intends to seek the approval of OMB for the renewal of four Information Collection Requests (ICRs). The ICRs comprise (1) Marine Occupational Health and Safety Standards for Benzene—46 CFR part 197, subpart C, (2) Request for Designation and Exemption of Oceanographic Research Vessels, (3) Oil Record Book for Ships, and (4) Application for Vessel Inspection and Waiver. Before submitting the ICRs to OMB, the Coast Guard is inviting comments on them as described below.

DATES: Comments must reach the Coast Guard on or before April 21, 2003.

ADDRESSES: To make sure that your comments and related material do not enter the docket [USCG 2003-14496] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document [USCG 2003-14496], and give the reasons for the comments. Please submit all comments and attachments in an unbound format no larger than 8½ by 11 inches, suitable for copying and electronic filing. Persons wanting acknowledgment of receipt of comments should enclose stamped self-addressed postcards or envelopes.

Information Collection Requests

1. Title: Marine Occupational Health and Safety Standards for Benzene—46 CFR part 197, subpart C.

OMB Control Number: 2115-0586.

Summary: To protect marine workers from exposure to toxic benzene vapor, the Coast Guard implemented 46 CFR part 197, subpart C.

Need: This information collection is vital to verifying compliance.

Respondents: Owners and operators of vessels.

Frequency: On occasion.

Burden: The estimated burden is 59,766 hours a year.

2. Title: Request for Designation and Exemption of Oceanographic Research Vessels.

OMB Control Number: 2115-0053.

Summary: 46 U.S.C. 2113 authorizes the Secretary of Transportation to exempt Oceanographic Research Vessels, by rule, from certain parts of Subtitle II of Title 46, Shipping, of the United States Code, concerning vessels and seamen.

Need: This information is necessary to ensure that a vessel qualifies for exemption.

Respondents: Owners or operators of vessels.

Frequency: On occasion.

Burden: The estimated burden is 21 hours a year.

3. Title: Oil Record Book for Ships.

OMB Control Number: 2115-0025.

Summary: The Act to Prevent Pollution from Ships (APPS) and the International Convention for Prevention of Pollution from Ships, 1973, as modified by the 1978 Protocol relating thereto (MARPOL 73/78), require the entry into an Oil Record Book (CG-4602A) of information about oil carried as cargo or fuel. The maintenance of the Book constitutes the collection of information. The requirement for it appears at 33 CFR 151.25.

Need: This information helps to verify sightings of actual violations of the APPS, to determine the level of compliance with MARPOL 73/78, and to reinforce the provisions against discharge.

Respondents: Operators of vessels.

Frequency: On occasion.

Burden: The estimated burden is 29,048 hours a year.

4. Title: Application for Vessel Inspection and Waiver.

OMB Control Number: 2115-0007.

Summary: The collection of information requires the owner, operator, agent, or master of a vessel to apply in writing to the Coast Guard before the commencement of the inspection for certification, or when, in the interest of national defense, a waiver from the requirements of navigation and vessel inspection seems desirable.

Need: 46 U.S.C. 3306 and 3309 authorize the Coast Guard to establish rules to protect life, property, and the environment by inspecting vessels. The reporting requirements of the Application for Inspection of U.S. Vessels and the Application for Waiver and Waiver Order are part of the Coast Guard's Marine Safety Program.

Respondents: Owners, operators, agents, or masters of vessels, or interested Federal agencies.

Frequency: On occasion, yearly, or on a 5-year cycle.

Burden: The estimated burden is 677 hours a year.

Dated: February 12, 2003.
Clifford I. Pearson,
Rear Admiral, U.S. Coast Guard, Director of Information and Technology.

[FR Doc. 03-4147 Filed 2-19-03; 8:45 am]

BILLING CODE 4910-15-P